ENVIRONMENTAL PROTECTION AGENCY

[FRL-9941-57-OA]

Request for Nominations of Candidates for EPA's Science Advisory Board 2016-2018 Scientific and Technological Achievement Awards Committee

AGENCY: Environmental Protection Agency.

ACTION: Notice.

SUMMARY: The U.S. Environmental Protection Agency (EPA) Science Advisory Board (SAB) Staff Office invites nominations of scientific experts from a diverse range of disciplines to be considered for appointment to the SAB's 2016-2018 Scientific and Technological Achievement Awards (STAA) Committee described in this notice.

DATES: Nominations should be submitted in time to arrive no later than February 16, 2016.

FOR FURTHER INFORMATION CONTACT: For further information about the SAB's STAA Committee membership appointment process and schedule, please contact Mr. Edward Hanlon, Designated Federal Officer (DFO), SAB Staff Office, by telephone/voice mail at (202) 564-2134; by fax at (202) 565-2098 or via email at hanlon.edward@epa.gov.

General information concerning the EPA SAB can be found at the EPA SAB Web site at http://www.epa.gov/sab.

SUPPLEMENTARY INFORMATION:

Background: The SAB (42 U.S.C. 4365) is a chartered Federal Advisory Committee that provides independent scientific and technical peer review, advice and recommendations to the EPA Administrator on the technical basis for EPA actions. As a Federal Advisory Committee, the SAB conducts business in accordance with the Federal Advisory Committee Act (FACA) (5 U.S.C. App. 2) and related regulations. The STAA Committee is an ad hoc subcommittee of the SAB that provides advice through the chartered SAB on recommendations for awards under EPA's STAA program. The SAB and the 2016-2018 STAA Committee will comply with the provisions of FACA and all appropriate SAB Staff Office procedural policies.

The EPA established the STAA in 1980 to recognize Agency scientists and engineers who published their work in the peer-reviewed literature. The STAA Program is an agency-wide competition to promote and recognize scientific and technological achievements by EPA employees. The STAA program is administered and managed by the EPA's Office of Research and Development (ORD). Each year the SAB has been asked to review the EPA's STAA nominations and make recommendations to the Administrator for monetary awards. The SAB Staff Office is seeking nominations of experts to serve on the SAB 2016-2018 STAA Committee, which operates under the auspices of the SAB.

Request for Nominations: The SAB Staff Office is seeking nominations of experts to form the SAB 2016-2018 STAA Committee in the following disciplines as they relate to human health and the environment: Air pollution exposure; chemistry and geochemistry; chemical engineering; civil and environmental engineering; ecology; environmental economics; groundwater and surface water contaminant fate and transport; human health effects and risk assessment; hydrology and hydrogeology; monitoring and measurement methods for air and water; risk management; transport and fate of contaminants; water quality; and water and wastewater treatment processes. The SAB Staff Office is especially interested in scientists and engineers with expertise described above who have knowledge and experience in air quality; aquatic and ecological toxicology; chemical safety; climate change; community environmental health; dosimetry and inhalation toxicology; drinking water; ecological modeling; ecological risk assessment; ecosystem services; energy and the environment; epidemiology; green chemistry; homeland security; human health dosimetry; mechanisms of toxicity and carcinogenicity; metabolism; statistics; sustainability; toxicokinetics; toxicology; waste and waste management; and water re-use.

Process and Deadline for Submitting Nominations: Any interested person or organization may nominate qualified individuals in the areas of expertise described above for possible service on the 2016-2018 STAA Committee identified in this notice. Nominations should be submitted in electronic format (preferred over hard copy) using the “Nomination of Experts” link at the bottom of the SAB homepage at http://www.epa.gov/sab). To receive full consideration, nominations should include the information requested below.

EPA's SAB Staff Office requests contact information about the person making the nomination; contact information about the nominee; the disciplinary and specific areas of expertise of the nominee; the nominee's resume or curriculum vitae; sources of recent grant and/or contract support; and a biographical sketch of the nominee indicating current position, educational background, research activities, and recent service on other national advisory committees or national professional organizations.

Persons having questions about the nomination procedures, or who are unable to submit nominations through the SAB Web site, should contact Mr. Edward Hanlon as indicated above in this notice. Nominations should be submitted in time to arrive no later than February 16, 2016. EPA values and welcomes diversity. In an effort to obtain nominations of diverse candidates, EPA encourages nominations of women and men of all racial and ethnic groups.

The EPA SAB Staff Office will acknowledge receipt of nominations. The names and biosketches of qualified nominees identified by respondents to this Federal Register notice, and additional experts identified by the SAB Staff, will be posted in a List of Candidates on the SAB Web site at http://www.epa.gov/sab. Public comments on the List of Candidates will be accepted for 21 days. The public will be requested to provide relevant information or other documentation on nominees that the SAB Staff Office should consider in evaluating candidates.

For the EPA SAB Staff Office a balanced review committee includes candidates who possess the necessary domains of knowledge, the relevant scientific perspectives (which, among other factors, can be influenced by work history and affiliation), and the collective breadth of experience to adequately address the charge. The SAB Staff Office will consider public comments on the List of Candidates, information provided by the candidates themselves, and background information independently gathered by the SAB Staff Office. Selection criteria to be used for committee membership include: (a) Scientific and/or technical expertise, knowledge, and experience (primary factors); (b) availability and willingness to serve; (c) absence of financial conflicts of interest; (d) absence of an appearance of a loss of impartiality; (e) skills working in committees, subcommittees and advisory committees; and, (f) for the committee as a whole, diversity of expertise and scientific points of view.

The SAB Staff Office's evaluation of an absence of financial conflicts of interest will include a review of the “Confidential Financial Disclosure Form for Special Government Employees Serving on Federal Advisory Committees at the U.S. Environmental Protection Agency” (EPA Form 3110-48). This confidential form allows government officials to determine whether there is a statutory conflict between a person's public responsibilities (which include membership on an EPA federal advisory committee) and private interests and activities, or the appearance of a loss of impartiality, as defined by federal regulation. The form may be viewed and downloaded from the following URL address http://yosemite.epa.gov/sab/sabproduct.nsf/Web/ethics?OpenDocument.

The approved policy under which the EPA SAB Office selects members for subcommittees and review panels is described in the following document, Overview of the Panel Formation Process at the Environmental Protection Agency Science Advisory Board (EPA-SAB-EC-02-010), which is posted on the SAB Web site at http://yosemite.epa.gov/sab/sabproduct.nsf/WebFiles/OverviewPanelForm/$File/ec02010.pdf.

Dated: January 13, 2016.
Thomas Brennan,
Deputy Director, EPA Science Advisory Board Staff Office.

[FR Doc. 2016-01349 Filed 1-22-16; 8:45 am]

BILLING CODE 6560-50-P